DEPARTMENT OF ENERGY

Federal Energy Regulatory Commission

[Docket No. RP96-359-006]

Transcontinental Gas Pipe Line Corporation; Notice of Compliance Filing

October 16, 2001.

Take notice that on October 1, 2001, Transcontinental Gas Pipe Line Corporation (Transco) tendered for filing copies of the executed service agreements that contain a negotiated rate under Rate Schedule FT applicable to Phase 1 of the MarketLink Expansion Project between Transco and various MarketLink customers.

Transco states that the purpose of the filing is to comply with filing requirements specified in the Commission's Order issued December 13, 2000, “Order Amending Certificate and Denying Request for Stay” which required Transco, among other things, to file, not less than 30 days nor more than 60 days prior to the commencement of service on Phase 1 of the MarketLink Project, the negoitated rate agreements or tariff sheets reflecting the essential elements of its negotiated rate agreements. The effective date of these negoitated rate agreements is November 1, 2001.

Transco states that copies of the filing are being mailed to its affected customers and interested State Commissions.

Any person desiring to protest said filing should file a protest with the Federal Energy Regulatory Commission, 888 First Street, NE., Washington, DC 20426, in accordance with Section 385.211 of the Commission's Rules and Regulations. All such protests must be filed on or before October 23, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-26498 Filed 10-22-01; 8:45 am]

BILLING CODE 6717-01-P